INTERNATIONAL TRADE COMMISSION

[Investigation No. 332-589]

African Growth and Opportunity Act (AGOA); Program Usage, Trends, and Sectoral Highlights

AGENCY: International Trade Commission.

ACTION: Notice of investigation and scheduling of a public hearing.

SUMMARY: Following receipt on January 19, 2022, of a request from the Committee on Ways and Means of the U.S. House of Representatives (Committee), under section 332(g) of the Tariff Act of 1930, the U.S. International Trade Commission (Commission) instituted Investigation No. 332-589, African Growth and Opportunity Act (AGOA): Program Usage, Trends, and Sectoral Highlights. The Committee requested that the Commission conduct an investigation and provide a report on the AGOA program in general and its usage, and also provide industry case studies to better understand the relative competitiveness of each sector and its impact on workers, economic development, and poverty reduction.

DATES:

May 25, 2022: Deadline for filing requests to appear at the public hearing.

May 27, 2022: Deadline for filing prehearing briefs and statements.

June 1, 2022: Deadline for filing electronic copies of oral hearing statements.

June 9, 2022: Public hearing.

June 16, 2022: Deadline for filing post-hearing briefs and statements.

October 27, 2022: Deadline for filing all other written submissions.

March 17, 2023: Transmittal of Commission report to the USTR.

ADDRESSES: All Commission offices, including the Commission's hearing rooms, are located in the U.S. International Trade Commission Building, 500 E Street SW, Washington, DC. All written submissions should be addressed to the Secretary, U.S. International Trade Commission, 500 E Street SW, Washington, DC 20436. The public record for this investigation may be viewed on the Commission's electronic docket (EDIS) at https://edis.usitc.gov.

FOR FURTHER INFORMATION CONTACT: Project Leader Amelia Shister (josephine.shister@usitc.gov or 202-205-2047) or Deputy Project Leaders Karen Thome (karen.thome@usitc.gov or 202-205-2070) and Samuel Goodman (samuel.goodman@usitc.gov or 202-205-3464) for information specific to this investigation. For information on the legal aspects of this investigation, contact William Gearhart of the Commission's Office of the General Counsel (william.gearhart@usitc.gov or 202-205-3091). The media should contact Jennifer Andberg, Office of External Relations (jennifer.andberg@usitc.gov or 202-205-1819). Hearing-impaired individuals may obtain information on this matter by contacting the Commission's TDD terminal at 202-205-1810. General information concerning the Commission may also be obtained by accessing its website (https://www.usitc.gov). Persons with mobility impairments who will need special assistance in gaining access to the Commission should contact the Office of the Secretary at 202-205-2000.

Background

As requested by the Committee under section 332(g) of the Tariff Act of 1930 (19 U.S.C. 1332(g)), the Commission will include the following in its report:

1. An overview of the AGOA program and its use, which should include, to the extent practicable:

a. A description of the program, including eligibility requirements, rules of origin, and scope of product coverage, including products not eligible for duty-free treatment under AGOA;

b. An overview of U.S. imports from AGOA eligible countries to the United States, highlighting the top exporting countries and top primary and value-added products, and separately identifying imports entered under AGOA, imports entering under an AGOA-eligible tariff line where no preference was claimed, and imports of non-AGOA eligible goods;

c. Identification of countries and sectors where AGOA utilization rates are, respectively, high and low, and broad factors that explain this; and

d. A qualitative examination, including a review of the available literature, of the role that AGOA has played in regional integration, and the extent to which AGOA has impacted workers and underserved communities, and contributed to economic development—including job growth and poverty reduction—in SSA countries.

2. Case studies for the following industries, to the extent practicable:

a. Cotton

i. An overview of the cotton industry in AGOA beneficiary countries, identifying top AGOA producers and trends in production, consumption, and exports, and including a discussion of how the sector contributes to employment, economic development, and poverty reduction;

ii. A qualitative analysis of the competitive strengths and weaknesses of production and exports of cotton in SSA countries; and

iii. An examination of the use of SSA-grown cotton in the AGOA or SSA apparel supply chain.

b. Apparel

i. An overview of the apparel industry in AGOA beneficiary countries, identifying top AGOA producers and trends in production, consumption, and exports, and including a discussion of how the sector contributes to employment, economic development, and poverty reduction;

ii. A qualitative analysis of the competitive strengths and weaknesses of production and exports of apparel in SSA countries;

iii. Explanation of AGOA's additional apparel eligibility requirements and the effect of the loss and recovery of AGOA beneficiary status on the apparel industry;

iv. A description of the AGOA rules of origin for apparel and an examination of the relationship between the rules and production and exports to the United States; and

v. An examination of the degree of regional integration in the apparel supply chain in AGOA countries and, to the extent available, information regarding the country of origin of inputs, such as fabrics, yarns, fibers, and trims.

c. Certain Chemicals

i. An overview of the chemicals industry in AGOA beneficiary countries, identifying top AGOA producers and trends in production, consumption, and exports, and including a discussion of how the sector contributes to employment, economic development, and poverty reduction;

ii. A qualitative analysis of the competitive strengths and weaknesses of production and exports of certain chemical products in SSA countries; and

iii. An examination of the relationship between AGOA preferences and SSA exports of certain chemicals to the U.S. market.

d. Cocoa

i. An overview of the cocoa industry, including growing operations and processing, in AGOA beneficiary countries, identifying top AGOA producers and trends in production, consumption, and exports, and including a discussion of how the sector contributes to employment, economic development, and poverty reduction;

ii. A qualitative analysis of the competitive strengths and weaknesses of production and exports of cocoa in SSA countries; and

iii. An examination of the relationship between AGOA preferences and SSA exports of cocoa and cocoa-related products to the U.S. market.

The Committee requested that the Commission transmit its report no later than 14 months following receipt of this request. In its request letter, the Committee stated that it intends to make the Commission's report available to the public in its entirety and asked that the Commission not include any confidential business information.

Public Hearing

A public hearing in connection with this investigation will be held beginning at 9:30 a.m. on June 9, 2022. Information about how to participate in the hearing, including whether it will be virtual, will be posted on the Commission's website no later than May 2, 2022, at https://usitc.gov/research_and_analysis/what_we_are_working_on.htm. Once on that web page, scroll down to Investigation No. 332-589, African Growth and Opportunity Act (AGOA): Program Usage, Trends, and Sectoral Highlights, and click on the link to “Hearing Information.” Interested parties should check the Commission's website periodically for updates.

Requests to appear at the public hearing should be filed with the Secretary no later than 5:15 p.m., May 25, 2022, in accordance with the requirements in the “Written Submissions” section below. All prehearing briefs and statements should be filed not later than 5:15 p.m., May 27, 2022. To facilitate the hearing, including the preparation of an accurate written transcript of the hearing, oral testimony to be presented at the hearing must be submitted to the Commission electronically no later than noon, June 1, 2022. All post-hearing briefs and statements should be filed no later than 5:15 p.m., June 16, 2022. Post-hearing briefs and statements should address matters raised at the hearing. For a description of the different types of written briefs and statements, see the “Definitions” section below.

In the event that, as of the close of business on May 25, 2022, no witnesses are scheduled to appear at the hearing, the hearing will be canceled. Any person interested in attending the hearing as an observer or nonparticipant should check the Commission website at the location listed two paragraphs above for information concerning whether the hearing will be held.

Written Submissions

In lieu of or in addition to participating in the hearing, interested parties are invited to file written submissions concerning this investigation. All written submissions should be addressed to the Secretary and should be received not later than the date specified in this notice. All written submissions must conform to the provisions of section 201.8 of the Commission's Rules of Practice and Procedure (19 CFR 201.8), as temporarily amended by 85 FR 15798 (March 19, 2020). Under that rule waiver, the Office of the Secretary will accept only electronic filings at this time. Filings must be made through the Commission's Electronic Document Information System (EDIS, https://edis.usitc.gov). No in-person paper-based filings or paper copies of any electronic filings will be accepted until further notice. Persons with questions regarding electronic filing should contact the Office of the Secretary, Docket Services Division (202-205-1802), or consult the Commission's Handbook on Filing Procedures.

Definitions of Types of Documents That May Be Filed; Requirements

In addition to requests to appear at the hearing, this notice provides for the possible filing of four types of documents: Prehearing briefs, oral hearing statements, post-hearing briefs, and other written submissions.

(1) Prehearing briefs refers to written materials relevant to the investigation and submitted in advance of the hearing, and includes written views on matters that are the subject of the investigation, supporting materials, and any other written materials that you consider will help the Commission in understanding your views. You should file a prehearing brief particularly if you plan to testify at the hearing on behalf of an industry group, company, or other organization, and wish to provide detailed views or information that will support or supplement your testimony.

(2) Oral hearing statements (testimony) refers to the actual oral statement that you intend to present at the public hearing. Do not include any confidential business information in that statement. If you plan to testify, you must file a copy of your oral statement by the date specified in this notice. This statement will allow Commissioners to understand your position in advance of the hearing and will also assist the court reporter in preparing an accurate transcript of the hearing (e.g., names spelled correctly).

(3) Post-hearing briefs refers to submissions filed after the hearing by persons who appeared at the hearing. Such briefs: (a) Should be limited to matters that arose during the hearing, (b) should respond to any Commissioner and staff questions addressed to you at the hearing, (c) should clarify, amplify, or correct any statements you made at the hearing, and (d) may, at your option, address or rebut statements made by other participants in the hearing.

(4) Other written submissions refers to any other written submissions that interested persons wish to make, regardless of whether they appeared at the hearing, and may include new information or updates of information previously provided.

There is no standard format that a brief or other written submission must follow. However, each such document must identify on its cover (1) the type of document filed (i.e., prehearing brief, oral statement of (name), post-hearing brief, or written submission), (2) the name of the person or organization filing it, and (3) whether it contains confidential business information (CBI). If it contains CBI, it must comply with the marking and other requirements set out below in this notice relating to CBI. Submitters of written documents (other than oral hearing statements) are encouraged to include a short summary of their position or interest at the beginning of the document, and a table of contents when the document addresses multiple issues.

Confidential Business Information

Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

As requested by the Committee, the Commission will not include any confidential business information in its report. However, all information, including confidential business information, submitted in this investigation may be disclosed to and used: (i) By the Commission, its employees and Offices, and contract personnel (a) for developing or maintaining the records of this or a related proceeding, or (b) in internal investigations, audits, reviews, and evaluations relating to the programs, personnel, and operations of the Commission including under 5 U.S.C. Appendix 3; or (ii) by U.S. government employees and contract personnel for cybersecurity purposes. The Commission will not otherwise disclose any confidential business information in a way that would reveal the operations of the firm supplying the information.

Summaries of Written Submissions

Persons wishing to have a summary of their position included in the report that the Commission sends to the Committee should include a summary with their written submission and should mark the summary as having been provided for that purpose. The summary should be clearly marked as “summary for inclusion in the report” at the top of the page. The summary may not exceed 500 words, should be in MS Word format or a format that can be easily converted to MS Word, and should not include any confidential business information. The summary will be published as provided if it meets these requirements and is germane to the subject matter of the investigation. The Commission will list the name of the organization furnishing the summary and will include a link to the Commission's Electronic Document Information System (EDIS) where the full written submission can be found.

By order of the Commission.
Issued: February 16, 2022.
William Bishop,
Supervisory Hearings and Information Officer.

[FR Doc. 2022-03806 Filed 2-22-22; 8:45 am]

BILLING CODE 7020-02-P